DEPARTMENT OF THE INTERIOR

National Park Service

Notice of Intent to Repatriate a Cultural Item: Denver Museum of Nature & Science, Denver, CO

AGENCY: National Park Service, Interior.

ACTION: Notice.

Notice is here given in accordance with the Native American Graves Protection and Repatriation Act (NAGPRA), 25 U.S.C. 3005, of the intent to repatriate a cultural item in the possession of the Denver Museum of Nature & Science, Denver, CO, which meets the definitions of “sacred object” and “object of cultural patrimony” under 25 U.S.C. 3001.

This notice is published as part of the National Park Service's administrative responsibilities under NAGPRA, 25 U.S.C. 3003 (d)(3). The determinations in this notice are the sole responsibility of the museum, institution, or Federal agency that has control of the cultural item. The National Park Service is not responsible for the determinations in this notice.

The cultural item is a “piki stone” from the Pueblo of Cochiti, New Mexico (A661.1). The piki stone is a sandstone slab, measuring approximately 26 x 19 x 2 inches, with the top surface blackened from baking. On November 10, 1972, the museum purchased the stone for $150 from Mr. Juan Melchoir of Cochiti Pueblo. Museum accession notes indicate that the stone dates to about 1930 and “was used by his family for several generations for baking piki bread.” The stone has long been a part of the museum's “Hopi House” exhibit in the Crane American Indian Cultures Hall.

During a consultation in the early 1990s, a group of council representatives from the Pueblo of Cochiti, New Mexico visited the museum and identified the stone as coming from the pueblo and determined that it was a sacred object and object of cultural patrimony; however, a formal claim was not officially submitted until 2006. The claim states that the Pueblo of Cochiti believes the stone “was stored by Mr. Melchoir during remodeling phases of a traditional cooking building and sold to the individual who” sold it to the museum and could not have been alienated by Mr. Melchoir, and thus is an object of cultural patrimony. The formal claim also states that the stone “was used, and if repatriated would continue to be used, in traditional cooking ceremonies, conducted throughout the year by appointed Cochiti women, during times of traditional society events. These events involve many culturally sensitive ceremonies in which cooking, and piki bread, are of major significance to conduct the ceremony.” Thus, the claim asserts that the stone is also a sacred object.

“Piki” is a borrowed Hopi term to describe the wafer bread, while some use the Tewa term guayave, or a variation thereof; and at Cochiti it is ma'tzin. At Cochiti, the “piki stone” itself is also referred to as a comal or yo'asha. The anthropology and documentary literature has little information about yo'asha at the Pueblo of Cochiti. The few references that could be found would suggest that such stones are “privately owned real property” which can be owned, exchanged, traded, purchased, and inherited. Although the tribe concurs that some stones are privately held, during consultation, the Pueblo of Cochiti offered compelling evidence that a few special ones are communally owned and are stored in communal piki houses. They are used by community members for specific ceremonies, thus making them objects of cultural patrimony and sacred objects. Because museum documentation states that the stone in this notice was sold by Mr. Melchoir, the Pueblo knows its history, and that it was used by the entire community for religious events. Mr. Melchoir was responsible for the piki house in which the stone was placed, but the tribe claims that the people knew it was a house for everyone. Each year, specific leaders are appointed to do things on behalf of the entire community. According to tribal consultation, currently there is one communal piki house with one stone, an example of a shared place for making ma'tzin for ceremonies. The stone in the museum's possession came from a house of this type, and if returned, will go back into this particular house.

Anthropology and documentary literature does confirm that piki bread is used by many pueblos during religious ceremonies. For the people of Cochiti, ma'tzin was a traditional everyday foodstuff, but it was also eaten on religious feast days and for celebrations. The Pueblo of Cochiti concurs that ma'tzin was an everyday food item, but also emphasizes that it could have deep religious meanings at particular times and events. The Publeo of Chociti NAGPRA representative, Mr. Lee Suina, explained, “You can go to a restaurant and have wine and bread, but when you go to church and eat wine and bread, it has more meaning. Since we know the piki was for this specific reason, then it's special. It's not an everyday form of bread, in this case.” Mr. Suina explained that prayers were likely offered when the stone was quarried, and prayers were offered when the stone was used to make ma'tzin for numerous ceremonies.

Officials of the Denver Museum of Nature & Science have determined that, pursuant to 25 U.S.C. 3001 (3)(C), the cultural item is a specific ceremonial object needed by traditional Native American religious leaders for the practice of traditional Native American religions by their present-day adherents. Officials of the Denver Museum of Nature & Science have also determined that, pursuant to 25 U.S.C. 3001 (3)(D), the cultural item has ongoing historical, traditional, or cultural importance central to the Native American group or culture itself, rather than property owned by an individual. Lastly, officials of the Denver Museum of Nature & Science have determined that, pursuant to 25 U.S.C. 3001 (2), there is a relationship of shared group identity which can be reasonably traced between the sacred object/object of cultural patrimony and the Pueblo of Cochiti, New Mexico.

Representatives of any other Indian tribe that believes itself to be culturally affiliated with the sacred object/object of cultural patrimony should contact Dr. Chip Colwell-Chanthaphonh, Curator of Anthropology and NAGPRA Officer, Department of Anthropology, Denver Museum of Nature & Science, 2001 Colorado Boulevard, Denver, CO 80205, telephone (303) 370-6378, before September 29, 2008. Repatriation of the sacred object/object of cultural patrimony to the Pueblo of Cochiti, New Mexico may proceed after that date if no additional claimants come forward.

The Denver Museum of Nature & Science is responsible for notifying the Pueblo of Cochiti, New Mexico that this notice has been published.

Dated: August 4, 2008.
Sherry Hutt,
Manager, National NAGPRA Program.

[FR Doc. E8-20109 Filed 8-28-08; 8:45 am]

BILLING CODE 4312-50-S